SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions to and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, DCRDP, Attn: Reports Clearance Director, 107 Altmeyer Building, 6401 Security Blvd., Baltimore, MD 21235, Fax: 410-966-2830, Email address: OR.Reports.Clearance@ssa.gov.

I. The information collections below are pending at SSA. SSA will submit them to OMB within 60 days from the date of this notice. To be sure we consider your comments, we must receive them no later than January 28, 2013. Individuals can obtain copies of the collection instruments by writing to the above email address.

1. Application for Widow's or Widower's Insurance Benefits—20 CFR 404.335-404.338, & 404.603—0960-0004. Since SSA needs information to make a formal determination for entitlement to widow(er)'s benefits, we use Form SSA-10-BK to determine whether an applicant meets the statutory and regulatory conditions for entitlement to widow(er)'s title II benefits. SSA employees interview individuals applying for benefits either face-to-face or via telephone and enter the information on the paper form or into the Modernized Claims System (MCS). The respondents are applicants for widow(er)'s benefits.

Type of Request: Revision of an OMB-approved information collection.

Modality of completion | Number of respondents | Frequency of response | Average burden per response (minutes) | Estimated total annual burden (hours)
SSA-10-BK—paper version | 5,000 | 1 | 15 | 1,250
SSA-10-BK—MCS version | 449,000 | 1 | 14 | 104,767
Total | 454,000 |  |  | 106,017

2. Statement for Determining Continuing Eligibility Supplemental Security Income Payment—20 CFR 416.204—0960-0145. SSA uses Form SSA-8202-BK to conduct low and middle error profile telephone or face-to-face redetermination interviews with Supplemental Security Income (SSI) recipients and representative payees (RP). The information SSA collects during the interview is necessary to determine whether SSI recipients met and continue to meet all statutory and regulatory requirements for SSI eligibility and whether they received, and are still receiving, the correct payment amount.

Type of Request: Revision of an OMB-approved information collection.

Modality of completion | Number of responses | Frequency of response | Average burden per response (minutes) | Estimated total annual burden (hours)
SSA-8202-BK | 6,633 | 1 | 21 | 2,322
Modernized SSI Claims System | 71,444 | 1 | 20 | 23,815
Total | 78,077 |  |  | 26,137

3. Notice Regarding Substitution of Party Upon Death of Claimant—Reconsideration of Disability Cessation—20 CFR 404.917-404.921 and 416.1407-416.1421—0960-0351. When a claimant dies before we make a determination on that person's request for reconsideration of a disability cessation, SSA seeks a qualified substitute party to pursue the appeal. If SSA locates a qualified substitute party, the agency uses Form SSA-770 to collect information about whether to pursue or withdraw the reconsideration request. We use this information as the basis for the decision to continue or discontinue with the appeals process. Respondents are substitute applicants who are pursuing a reconsideration request for a deceased claimant.

Type of Request: Revision of an OMB-approved information collection.

Modality of completion | Number of responses | Frequency of response | Average burden per response (minutes) | Estimated total annual burden (hours)
SSA-770 | 1,200 | 1 | 5 | 100

II. SSA submitted the information collections below to OMB for clearance. Your comments regarding the information collections would be most useful if OMB and SSA receive them 30 days from the date of this publication. To be sure we consider your comments, we must receive them no later than December 31, 2012. Individuals can obtain copies of the OMB clearance packages by writing to OR.Reports.Clearance@ssa.gov.

1. Reporting Changes that Affect Your Social Security Payment—20 CFR 404.301-305, 404.310-311, 404.330-.333, 404.335-.341, 404.350-.352, and 404.468—0960-0073. When Social Security beneficiaries experience a change that could affect their payments, they must report these changes to SSA. Title II beneficiaries in this category use Form SSA-1425 to report the relevant information to SSA; the agency then determines if the respondents continue to be entitled to benefits, and if so, the proper amount of these benefits. The respondents are Social Security beneficiaries receiving title II SSA retirement, disability, or survivor's auxiliary benefits who need to report an event that could affect their payments.

Type of Request: Revision of an OMB-approved information collection.

Modality of completion | Number of responses | Frequency of response | Average burden per response (minutes) | Estimated total annual burden (hours)
SSA-1425 | 70,000 | 1 | 5 | 5,833

2. State Supplementation Provisions: Agreement; Payments—20 CFR 416.2095-416.2098, 416.2099—0960-0240. Section 1618 of the Social Security Act (Act) contains pass-along provisions of the Social Security amendments. These provisions require states that supplement Federal SSI payments to pass along Federal cost-of-living increases to individuals who are eligible for state supplemental payments. If a state fails to keep payments at the required level, it becomes ineligible for Medicaid reimbursement under title XIX of the Act. SSA uses the information to determine a state's eligibility for Medicaid reimbursement. Respondents are state agencies administering supplemental programs.

Type of Request: Extension of an OMB-approved information collection.

State reporting method | Number of respondents | Frequency of response | Average burden per response (minutes) | Estimated total annual burden (hours)
Total Expenditures | 7 | 4 | 60 | 28
Maintenance of Payment Levels | 24 | 1 | 60 | 24
Total | 31 |  |  | 52

3. Substitution of Party Upon Death of Claimant—20 CFR 404.957(c)(4) and 416.1457(c)(4)—0960-0288. An administrative law judge (ALJ) may dismiss a request for a hearing on a pending claim of a deceased individual for Social Security benefits or SSI payments. Individuals who believe they may be adversely affected by the dismissal may ask to be a substitute party for the deceased claimant by completing Form HA-539. The ALJs and the hearing office support staff use this information to (1) maintain a written record of the request; (2) establish the relationship of the requester to the deceased claimant; (3) determine the substituted individual's wishes regarding an oral hearing or decision on the record; and (4) admit the data into the claimant's official record as an exhibit. The respondents are individuals requesting to be a substitute party for a deceased claimant.

Type of Request: Revision of an OMB-approved information collection.

Modality of completion | Number of responses | Frequency of response | Average burden per response (minutes) | Estimated total annual burden (hours)
HA-539 | 4,000 | 1 | 5 | 333

4. Continuation of SSI Benefits for the Temporarily Institutionalized—Certification of Period and Need to Maintain Home—20 CFR 416.212(b)(1)—0960-0516. When SSI recipients (1) enter a public institution or (2) enter a private medical treatment facility with Medicaid paying more than 50 percent of expenses, SSA must reduce recipients' SSI payments to a nominal sum. However, if this institutionalization is temporary (defined as a maximum of three months), SSA may waive the reduction.

Before SSA can waive the SSI payment reduction, the agency must receive the following documentation: (1) A physician's certification stating the SSI recipient will only be institutionalized for a maximum of three months and (2) certification from the recipient, the recipient's family, or friends confirming SSI payments are needed to maintain the living arrangements to which the individual will return post-institutionalization. The respondents are SSI recipients, their family or friends, and doctors.

Type of Request: Extension of an OMB-approved information collection.

Modality of completion | Number of responsdents | Frequency of response | Average burden per response (minutes) | Estimated total annual burden (hours)
Certifications from physicians and other respondents | 60,000 | 1 | 5 | 5,000

5. Privacy and Disclosure of Official Records and Information; Availability of Information and Records to the Public—20 CFR 401.40(b)&(c), 401.55(b), 401.100(a), 402.130, 402.185—0960-0566. SSA established methods for the public to: (1) Access their SSA records; (2) allow SSA to disclose records; (3) correct or amend their SSA records; (4) consent to release of their records; (5) request records under the Freedom of Information Act (FOIA); and (6) request SSA waive or reduce fees normally charged for release of FOIA. SSA often collects the necessary information for these requests through a written letter, with the exception of the consent for release of records, for which there is Form SSA-3288. The respondents are individuals requesting access to, correction of, or disclosure of SSA records.

Type of Request: Revision of an OMB-approved information collection.

Modality of completion | Number of responses | Frequency of response | Average burden per response (minutes) | Estimated total annual burden (hours)
Access to Records | 10,000 | 1 | 11 | 1,833
Designating a Representative for Disclosure of Records | 3,000 | 1 | 120 | 6,000
Amendment of Records | 100 | 1 | 10 | 17
Consent of Release of Records | 3,000,000 | 1 | 3 | 150,000
FOIA Requests for Records | 15,000 | 1 | 5 | 1,250
Waiver/Reduction of Fees | 400 | 1 | 5 | 33
Total | 3,028,500 |  |  | 159,133

6. Representative Payee Report of Benefits and Dedicated Account—20 CFR 416.546, 416.635, 416.640, 416.665—0960-0576. SSA requires representative payees (RPs) to submit a written report accounting for the use of money paid to Social Security beneficiaries or SSI recipients, and to establish and maintain a dedicated account for these payments. SSA uses Form SSA-6233 to ensure the RPs are use the benefits for the beneficiary's or recipient's current maintenance and personal needs, and the expenditures of funds from the dedicated account are in compliance with the law. Respondents are RPs for SSI recipients and Social Security beneficiaries.

Type of Request: Revision of an OMB-approved information collection.

Modality of completion | Number of respondents | Frequency of response | Average burden per response (minutes) | Estimated total annual burden (hours)
SSA-6233 | 30,000 | 1 | 20 | 10,000

7. Application for Circuit Court Law—20 CFR 404.985 & 416.1458—0960-0581. Persons claiming an acquiescence ruling (AR) would change SSA's prior determination or decision must submit a written readjudication request with specific information. SSA reviews the information in the requests to determine if the issues stated in the AR pertain to the claimant's case, and if the claimant is entitled to readjudication. If readjudication is appropriate, SSA considers the issues the AR covers. Any new determination or decision is subject to administrative or judicial review as specified in the regulations. Respondents are claimants for Social Security benefits and SSI payments who request readjudication. This information collection request is for the information claimants must provide to request readjudication.

Type of Request: Extension of an OMB-approved information collection.

Modality of completion | Number of respondents | Frequency of response | Average burden per response (minutes) | Estimated total annual burden (hours)
AR-based Readjudication Requests | 10,000 | 1 | 17 | 2,833

Dated: November 26, 2012.
Faye Lipsky,
Reports Clearance Director, Social Security Administration.

[FR Doc. 2012-28891 Filed 11-28-12; 8:45 am]

BILLING CODE 4191-02-P